DEPARTMENT OF HOMELAND SECURITY

Bureau of Customs and Border Protection

Notice of Intent To Prepare an Environmental Impact Statement (EIS) and Request for Public Comments Concerning Proposed Construction and Operation of Tactical Infrastructure for the U.S. Customs and Border Protection, Office of Border Patrol Rio Grande Valley (Texas) Sector

AGENCY: U.S. Customs and Border Protection, Department of Homeland Security.

ACTION: Notice of Intent to Prepare an Environmental Impact Statement (EIS) and Request for Public Comments.

SUMMARY: Pursuant to the National Environmental Policy Act of 1969, 42 U.S.C. 4321 et seq., (NEPA), U.S. Customs and Border Protection (CBP) will prepare an Environmental Impact Statement (EIS) to identify and assess the potential impacts associated with a proposal to construct and operate tactical infrastructure along approximately 70 miles of the international border between the United States and Mexico within the Office of Border Patrol's (OBP's) Rio Grande Valley Sector, Texas (the Proposed Action). The purpose of the Proposed Action is to further CBP's ability to gain effective control of the border by denying pedestrian and other access in high priority sections of OBP's Rio Grande Valley Sector. CBP is the decision-making agency for the Proposed Action.

Notice is hereby given that the public scoping process has been initiated to prepare an EIS that will address the impacts and alternatives of the Proposed Action. The purpose of the scoping process is to solicit public comments regarding the range of issues, including potential impacts and alternatives that should be addressed in the EIS.

FOR FURTHER INFORMATION CONTACT: Visit http://www.BorderFenceNEPA.com or e-mail: information@BorderFenceNEPA.com. Written requests for information may be submitted to: Charles McGregor, U.S. Army Corps of Engineers, Engineering Construction and Support Office, 819 Taylor St., Room 3A14, Fort Worth, Texas 76102; Phone: (817) 886-1585; and Fax: (817) 886-6404.

Background: An EIS is being prepared in support of a proposal by OBP's Rio Grande Valley Sector for controlling and deterring the influx of illegal immigration and contraband into the United States. In order to secure our nation's borders, CBP is developing and deploying the most effective mix of proven technology, infrastructure, and increased personnel.

The Rio Grande Valley Sector includes the area along the international border between the United States and Mexico from Rio Grande City, Texas, to the Gulf of Mexico. In that area, CBP is proposing to install and operate tactical infrastructure consisting of pedestrian fences, supporting patrol roads, lights, and other infrastructure along approximately 70 miles of the U.S./Mexico international border (the Proposed Action). The Proposed Action includes the installation of tactical infrastructure in 21 segments along the international border in the vicinity of Rio Grande City, Texas; McAllen, Texas; Mercedes, Texas; Harlingen, Texas; Brownsville, Texas; and Fort Brown, Texas. Individual segments might range from approximately 1 mile to more than 13 miles. For much of its length, the proposed infrastructure will follow the International Boundary and Water Commission levee, but some portions will also encroach on multiple privately-owned land parcels. The infrastructure would cross multiple land use types, including rural, agricultural, suburban, and urban land. It may also encroach on portions of the Lower Rio Grande Valley National Wildlife Refuge and Texas state parks in the Rio Grande Valley.

Potential alternatives for the environmental impacts analysis will consider location, construction, and operation of tactical infrastructure. Alternatives must meet the need to gain effective control of our nation's borders, as well as essential technical, engineering, and economic threshold requirements to ensure that a proposed action is environmentally sound, economically viable, and meets all applicable laws and regulations.

The EIS will comply with the National Environmental Policy Act of 1969 (NEPA), the Council on Environmental Quality regulations in 40 CFR Parts 1500-1508, and Department of Homeland Security (DHS) Management Directive 5100.1 (Environmental Planning Program).

Consistent with 40 CFR 1508.28, the EIS will analyze the site-specific environmental impacts of the Proposed Action, which were broadly described in two previous programmatic EISs prepared by the former U.S. Immigration and Naturalization Service (INS) (which now fall under the responsibility of CBP), Department of Defense, and Joint Task Force 6 (JTF-6). The Programmatic EIS for JTF-6 Activities Along the U.S./Mexico Border, August 1994, and its supplementing document, Supplemental Programmatic EIS for INS and JTF-6 Activities, June 2001, were prepared to address the cumulative effects of past and reasonably foreseeable projects undertaken by JTF-6 for numerous law enforcement agencies within the four southwestern states (California, Arizona, New Mexico, and Texas). These documents can be obtained from the U.S. Army Corps of Engineers, Fort Worth District, Engineering Construction and Support Office Web site, at https://ecso.swf.usace.army.mil; by sending an e-mail request to charles.mcgregor@swf02.usace.army.mil; or by mailing a request to Charles McGregor, U.S. Army Corps of Engineers, Engineering Construction and Support Office, 819 Taylor St., Room 3A14, Fort Worth, Texas 76102.

Public Participation: Pursuant to the Council on Environmental Quality's regulations, CBP invites public participation in the NEPA process. This notice requests public participation in the scoping process, establishes a public comment period, and provides information on how to participate.

Public scoping is an open process for determining the scope of the EIS and identifying significant issues related to the Proposed Action. Anyone wishing to provide comments, suggestions, or relevant information on the Proposed Action may do so as follows:

You may submit comments to CBP by contacting SBInet, Tactical Infrastructure Program Office. To avoid duplication, please use only one of the following methods:

(a) Electronically through the Web site at: http://www.BorderFenceNEPA.com;

(b) By e-mail to: RGVcomments@BorderFenceNEPA.com;

(c) By mail to: Rio Grande Valley PF-225 EIS, c/o e2M, 2751 Prosperity Avenue, Suite 200, Fairfax, Virginia 22031; or

(d) By fax to: (757) 282-7697.

Comments and related material must reach CBP by October 15, 2007. CBP will consider all comments and material received during the NOI comment period. If you submit a comment, please include your name and address, and identify your comments as related to the Rio Grande Valley Sector EIS. Comments received after October 15, 2007 will receive responses following the publication of the draft EIS.

This scoping period is not the only opportunity you will have to comment. A draft EIS will be prepared, and prior to the development of a final EIS, CBP will release the draft EIS for public review. At that time, a Notice of Availability (NOA) will be published in the Federal Register, the Brownsville Herald (Brownsville, Texas), and The Monitor (McAllen, Texas). The NOA will announce the availability of the draft EIS, how to obtain a copy, and the dates, times, and places of any associated public informational meetings.

Dated: September 19, 2007.
Eugene H. Schied,
Assistant Commissioner, Office of Finance.

[FR Doc. E7-18829 Filed 9-21-07; 8:45 am]

BILLING CODE 9111-14-P